DEPARTMENT OF ENERGY

Federal Energy Regulatory Commission

[Docket No. EL15-39-000]

Alabama Power Company, Southern Power Company, Mississippi Power Company, Georgia Power Company, Gulf Power Company, Oleander Power Project, Limited Partnership, Southern Company—Florida LLC, Southern Turner Cimarron I, LLC, Spectrum Nevada Solar, LLC, Campo Verde Solar, LLC, Macho Springs Solar, LLC; Notice of Institution of Section 206 Proceeding, and Refund Effective Date

On April 27, 2015, the Commission issued an order in Docket No. EL15-39-000, pursuant to section 206 of the Federal Power Act (FPA), 16 U.S.C. 824e (2012), instituting an investigation into the justness and reasonableness of Southern Companies' market-based rates in the Southern Company Services, Inc., PowerSouth Energy Cooperative, South Carolina Public Service Authority, South Carolina Electric & Gas Company, and City of Tallahassee balancing authority areas. Alabama Power Company, 151 FERC ¶ 61,071 (2015).

The refund effective date in Docket No. EL15-39-000, established pursuant to section 206(b) of the FPA, will be the date of publication of this notice in the Federal Register.

Dated: April 28, 2015.
Nathaniel J. Davis, Sr.,
Deputy Secretary.

[FR Doc. 2015-11326 Filed 5-8-15; 8:45 am]

BILLING CODE 6717-01-P